DEPARTMENT OF AGRICULTURE

Animal and Plant Health Inspection Service

[Docket No. 02-059-1]

Availability of an Environmental Assessment

AGENCY: Animal and Plant Health Inspection Service, USDA.

ACTION: Notice of availability and request for comments.

SUMMARY: We are advising the public that an environmental assessment has been prepared by the Animal and Plant Health Inspection Service relative to the control of yellow starthistle, Centaurea solstitialis (Asteraceae). The environmental assessment considers the effects of, and alternatives to, the release of a nonindigenous rust fungus, Puccinia jaceae var. solstitialis (Urendinales), into the environment for use as a biological control agent to reduce the severity of yellow starthistle infestations. We are making this environmental assessment available to the public for review and comment.

DATES: We will consider all comments we receive that are postmarked, delivered, or e-mailed by July 1, 2002.

ADDRESSES: You may submit comments by postal mail/commercial delivery or by e-mail. If you use postal mail/commercial delivery, please send four copies of your comment (an original and three copies) to: Docket No. 02-059-1, Regulatory Analysis and Development, PPD, APHIS, Station 3C71, 4700 River Road Unit 118, Riverdale, MD 20737-1238. Please state that your comment refers to Docket No. 02-059-1. If you use e-mail, address your comment to regulations@aphis.usda.gov. Your comment must be contained in the body of your message; do not send attached files. Please include your name and address in your message and “Docket No. 02-059-1” on the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Charles L. Divan, Plant Pathologist, PPD, APHIS, 4700 River Road Unit 135, Riverdale, MD 20737-1236; (301) 734-3367.

SUPPLEMENTARY INFORMATION:

Background

The Animal and Plant Health Inspection Service (APHIS) is considering an application from the California Department of Food and Agriculture (CDFA) for a permit to release a nonindigenous rust fungus, Puccinia jaceae var. solstitialis (Urendinales), in California to reduce the severity of yellow starthistle (YST), Centaurea solstitialis, infestations.

YST is an exotic weed that has become one of California's worst pests since its introduction prior to 1860. Since then, it has spread steadily throughout California and other western States. YST infests rangelands, orchards, vineyards, pastures, parks, and natural areas. Uncontrolled, it dominates the local plant community. It is capable of invading undisturbed areas.

APHIS has completed an environmental assessment that considers the effects of, and alternatives to, releasing P. jaceae var. solstitialis into the environment as part of a biological control program to reduce the severity of YST infestations. There are currently several control methods for YST, including mowing, timed grazing, prescribed burns, and other methods. However, these approaches are very expensive, may damage the environment, and take several years to be effective. The United States Department of Agriculture's Agricultural Research Service and CDFA are cooperatively developing biological controls for YST. We anticipate that biological control will significantly reduce control costs and possibly permanently reduce the abundance and impact of YST.

APHIS' review and analysis of the potential environmental impacts associated with releasing this biological control agent into the environment are documented in detail in an environmental assessment entitled “Field Release of a Rust Fungus, Puccinia jaceae var. solstitialis (Urendinales), For Biological Control of Yellow Starthistle, Centaurea solstitialis (Asteraceae)” (April 2002). We are making this environmental assessment available to the public for review and comment. We will consider all comments that we receive by the date listed under the heading DATES at the beginning of this notice.

You may request copies of the environmental assessment by calling or writing to the person listed under FOR FURTHER INFORMATION CONTACT. Please refer to the title of the environmental assessment when requesting copies. The environmental assessment is also available for review in our reading room (information on the location and hours of the reading room is listed under the heading ADDRESSES at the beginning of this notice.)

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 23rd day of May 2002.
Peter Fernandez,
Acting Administrator, Animal and Plant Health Inspection Service.

[FR Doc. 02-13530 Filed 5-29-02; 8:45 am]

BILLING CODE 3410-34-P